SMALL BUSINESS ADMINISTRATION

[Declaration of Disaster #3245 (Amendment #1)]

State of West Virginia

In accordance with notices received from the Federal Emergency Management Agency on March 8, 2000, the above-numbered Declaration is hereby amended to include Preston, Randolph, Taylor, and Tucker Counties in the State of West Virginia as a disaster area due to damages caused by flooding, severe storms, and landslides. This Declaration is further amended to establish the incident period for this disaster as beginning on February 18, 2000 and continuing through February 22, 2000.

In addition, applications for economic injury loans from small businesses located in the following contiguous counties may be filed until the specified date at the previously designated location: Grant, Pendleton, and Pocahontas Counties in West Virginia, and Garrett County, Maryland. Any counties contiguous to the above-named primary counties and not listed herein have been previously declared.

The economic injury number for the State of Maryland is 9G9200.

All other information remains the same, i.e., the deadline for filing applications for physical damage is April 28, 2000 and for economic injury the deadline is November 28, 2000.

(Catalog of Federal Domestic Assistance Program Nos. 59002 and 59008).
Dated: March 10, 2000.
Bernard Kulik,
Associate Administrator for Disaster Assistance.

[FR Doc. 00-6697 Filed 3-16-00; 8:45 am]

BILLING CODE 8025-01-P